DEPARTMENT OF TRANSPORTATION

Federal Aviation Administration

14 CFR Part 71

[Docket No. FAA-2024-2456; Airspace Docket No. 24-ANM-71]

RIN 2120-AA66

Modification of Class D and Class E Airspace; Cheyenne Regional/Jerry Olson Field, Cheyenne, WY

AGENCY: Federal Aviation Administration (FAA), DOT.

ACTION: Final rule.

SUMMARY: This action modifies the Class E airspace extending upward from 700 feet above the surface and removes the Class E airspace extending upward from 1,200 feet above the surface at Cheyenne Regional/Jerry Olson Field, Cheyenne, WY. These actions support the safety and management of instrument flight rules (IFR) operations at the airport.

DATES: Effective date 0901 UTC, August 7, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies Class E airspace to support IFR operations at Cheyenne Regional/Jerry Olson Field, Cheyenne, WY.

History

The FAA published a notice of proposed rulemaking for Docket No. FAA-2024-2456 in the Federal Register (89 FR 99173; December 10, 2024), proposing to modify Class D and E airspace at Cheyenne Regional/Jerry Olson Field, WY. Interested parties were invited to participate in this rulemaking effort by submitting written comments on the proposal to the FAA. No comments were received.

Differences From the NPRM

The NPRM proposed administrative modifications to update the airport's legal descriptions for their Class D airspace and Class E airspace designated as a surface area. Both descriptions were proposed to replace the use of the phrase “Notice to Airmen” to “Notice to Air Missions.” However, subsequent to the publication of the NPRM and effective February 10, 2025, the FAA's definition of the acronym “NOTAM” reverted back to “Notice to Airmen.” As such, any proposed modifications to the Class D airspace and Class E airspace designated as a surface area within the NPRM were administrative in nature and are no longer necessary.

Incorporation by Reference

Class E5 airspace designations are published in paragraph 6005 of FAA Order JO 7400.11, Airspace Designations and Reporting Points, which is incorporated by reference in 14 CFR 71.1 on an annual basis. This document amends the current version of that order, FAA Order JO 7400.11J, dated July 31, 2024, and effective September 15, 2024. These updates will be published in the next update to FAA Order JO 7400.11.

FAA Order JO 7400.11J lists Class A, B, C, D, and E airspace areas, air traffic service routes, and reporting points.

The Rule

This action amends 14 CFR part 71 by modifying the Class E airspace extending upward from 700 feet above the surface and removing the Class E airspace extending upward from 1,200 feet above the surface at Cheyenne Regional/Jerry Olson Field, Cheyenne, WY.

The westward portion of the Class E airspace extending upward from 700 feet above the surface is widened to be within a 9.1-mile radius of the airport between the airport's 209° bearing clockwise to its 336° bearing due to rising terrain. This additional Class E airspace will better contain diverse IFR departure operations until they reach 1,200 feet above the surface.

The Class E airspace extending upward from 1,200 feet above the surface at the airport is redundant and is removed. The Denver Class E6 en route domestic airspace provides sufficient containment of arriving IFR operations at 1,500 feet and higher above the surface and departing IFR operations from the point they reach 1,200 feet above the surface until reaching overlying or adjacent controlled airspace.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11J, Airspace Designations and Reporting Points, dated July 31, 2024, and effective September 15, 2024, is amended as follows:

Paragraph 6005 Class E Airspace Areas Extending Upward From 700 Feet or More Above the Surface of the Earth.

* * * * *

ANM WY E5 Cheyenne, WY [Amended]

Cheyenne Regional/Jerry Olson Field, WY

(Lat. 41°09′20″ N, long. 104°48′38″ W)

That airspace extending upward from 700 feet above the surface within an 8.1-mile radius of Cheyenne Regional/Jerry Olson Field, within a 9.1-mile radius of the airport between its 209° bearing clockwise to its 336° bearing, within 2.4 miles each side of the airport's 028° bearing extending from its 8.1-mile radius to 10.8 miles northeast of the airport, and within 2.2 miles each side of the airport's 275° bearing extending from its 9.1-mile radius to 10.6 miles west of the airport.

* * * * *

Issued in Des Moines, Washington, on April 1, 2025.
B.G. Chew,
Group Manager, Operations Support Group, Western Service Center.

[FR Doc. 2025-06055 Filed 4-9-25; 8:45 am]

BILLING CODE 4910-13-P